DEPARTMENT OF HEALTH AND HUMAN SERVICES

National Committee on Vital and Health Statistics: Meeting Full Committee

Pursuant to the Federal Advisory Committee Act, the Department of Health and Human Services (HHS) announces the following advisory committee meeting.

Name: National Committee on Vital and Health Statistics (NCVHS); Full Committee Meeting.

Time and Date:

September 16, 2013 9:00 a.m.-2:45 p.m. EDT.

September 17, 2013 9:00 a.m.-12:00 p.m. EDT. 1:00 p.m.-5:00 p.m. EDT, Working Group on Data Access and Use.

Place: U.S. Department of Health and Human Services, Hubert Humphrey Building, 200 Independence Avenue SW., Room 800, Washington, DC 20201.

Status: Open.

Purpose: At this meeting the Committee will hear presentations and hold discussions on several health data policy topics. On the morning of the first day, the Committee will hear updates from the Department (HHS), the Centers for Medicare and Medicaid Services (CMS), the Office of the National Coordinator (ONC), and the Office for Civil Rights (OCR). The Committee will also review and discuss a recommendation letter from the Standards Subcommittee on the status of Implementation of HIPAA and the ACA.

Following the lunch break, Subcommittee Co-chairs will update the Committee on the hearing organized by several subcommittees to explore aspects of the Community as a Learning Health System. Also, the Committee will review the proposed outline and plans for the upcoming HIPAA Report to Congress and the NCHS Acting Director will give an update on the Center. Finally, the Committee will receive a briefing about healthcare initiatives at the Federal Communications Commission.

On the morning of the second day, the Committee will discuss and consider for approval a draft recommendation letter and hear from the Standards Subcommittee Co-Chairs about plans for the September 18 roundtable on a standards roadmap. In addition, the Committee chair will discuss elements of convergence, after which, an update will be given regarding HHS Data Working Group activities. Finally, co-chairs will give reports on plans, and the Committee chair will give final remarks and receive feedback from the membership regarding NCVHS strategic implementation. Once the full Committee adjourns, the NCVHS's Working Group on HHS Data Access & Use will convene to discuss best practices and suggestions for release of open HHS data, and summarize future plans of the Working Group. Further information will be provided on the NCVHS Web site at http://www.ncvhs.hhs.gov/.

The times shown above are for the full Committee meeting. Subcommittee breakout sessions are scheduled for late in the afternoon on the first day and early morning the second day. Agendas for these breakout sessions will be posted on the NCVHS Web site (URL below) when available.

Contact Person for More Information: Substantive program information may be obtained from Marjorie S. Greenberg, Executive Secretary, NCVHS, National Center for Health Statistics, Centers for Disease Control and Prevention, 3311 Toledo Road, Room 2402, Hyattsville, Maryland 20782, telephone (301) 458-4245. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: August 26, 2013.
James Scanlon,
Deputy Assistant Secretary for Science and Data Policy, Office of the Assistant Secretary for Planning and Evaluation.

[FR Doc. 2013-21432 Filed 9-3-13; 8:45 am]

BILLING CODE 4151-05-P